DEPARTMENT OF TRANSPORTATION

Federal Aviation Administration

14 CFR Part 39

[Docket No. FAA-2009-0908; Directorate Identifier 2009-NM-067-AD]

RIN 2120-AA64

Airworthiness Directives; The Boeing Company Model 757 Airplanes

AGENCY: Federal Aviation Administration (FAA), DOT.

ACTION: Supplemental notice of proposed rulemaking (NPRM); reopening of comment period.

SUMMARY: We are revising an earlier proposed airworthiness directive (AD) for the products listed above. That NPRM proposed replacing the power control relays for the fuel boost pumps and override pumps with new relays having a ground fault interrupt (GFI) feature. That NPRM was prompted by results from fuel system reviews conducted by the manufacturer. This action revises that NPRM for all airplanes by proposing to require an electrical bonding resistance measurement for certain GFI relays to verify that certain bonding requirements are met. This action also revises that NPRM by proposing to require, for certain airplanes, an inspection to ensure that certain screws are properly installed, and re-installing longer screws if necessary. We are proposing this supplemental NPRM to prevent damage to the fuel pumps caused by electrical arcing that could introduce an ignition source in the fuel tank, which, in combination with flammable fuel vapors, could result in a fuel tank explosion and consequent loss of the airplane. Since these actions impose an additional burden over that proposed in the NPRM, we are reopening the comment period to allow the public the chance to comment on these proposed changes.

DATES: We must receive comments on this supplemental NPRM by January 28, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Georgios Roussos, Aerospace Engineer, Systems and Equipment Branch, ANM-130S, Seattle Aircraft Certification Office, FAA, 1601 Lind Avenue, SW., Renton, Washington 98057-3356; telephone (425) 917-6482; fax (425) 917-6590; e-mail: Georgios.Roussos@faa.gov.

SUPPLEMENTARY INFORMATION:

Comments Invited

We invite you to send any written relevant data, views, or arguments about this proposed AD. Send your comments to an address listed under the ADDRESSES section. Include “Docket No. FAA-2009-0908; Directorate Identifier 2009-NM-067-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 to include an airworthiness directive (AD) that would apply to certain Model 757-200, -200PF, -200CB, and -300 series airplanes. That NPRM was published in the Federal Register on October 19, 2009 (74 FR 53436). That NPRM proposed to require replacing the power control relays for the fuel boost pumps and override pumps with new relays having a ground fault interrupt (GFI) feature.

Actions Since Previous NPRM Was Issued

Since we issued the previous NPRM, Boeing has issued Service Bulletins 757-28A0078 and 757-28A0079, both Revision 1, both dated August 24, 2010. In the previous NPRM, we referred to Boeing Alert Service Bulletins 757-28A0078 and 757-28A0079, both dated July 16, 2008, as the appropriate sources of service information. The procedures in Revision 1 of these service bulletins are essentially the same as those in the original issues; however, Revision 1 of these service bulletins also includes the following new actions:

• For all airplanes: Adds bonding resistance measurements of the GFI relays installed on the P33 and P37 panels to verify that certain bonding requirements are met.

• For airplanes on which the original issue of these service bulletins has been done: Adds general visual inspection to ensure that the installation screws used to secure the GFI relays have enough grip length to hold the screws to each nutplate. The original screws were shorter and might not have been installed properly. Revision 1 of these service bulletins specifies installation of longer screws if necessary.

• For all airplanes: Corrects the part number for the screws used to install the relays and adds substitution information for installation screws.

Comments

We gave the public the opportunity to comment on the previous NPRM. The following presents the comments received on the NPRM and the FAA's response to each comment.

Request To Change Wording in NPRM

Boeing requested that we change the wording in the paragraph of the NPRM titled, “FAA's Determination and Requirements of This Proposed AD.” The paragraph states in part: “Airworthiness Limitation (AWL) 28-AWL-21 of Section 9 of the Boeing 757 Maintenance Planning Document (MPD) Document, D622N001-9, Revision March 2008, which was required by AD 2008-10-11, is also related to this proposed AD by including a repetitive operational test of the GFI relays, and repair of any failed GFI relay to ensure continued functionality of the GFI circuit.” Boeing pointed out that AWL 28-AWL-21 does not mention repair of any failed GFI relay and requested that the phrase “and repair of any failed GFI relay” be deleted from that paragraph of the NPRM.

We agree with Boeing's statement that AWL 28-AWL-21 of Section 9 of the Boeing 757 Maintenance Planning Document (MPD) Document, D622N001-9, Revision March 2008, does not describe repair of the GFI relays. The intent of the repair statement in the original NPRM was to show that if a maintenance check fails, it should be followed by a system repair and retest before pump operation. The correction can be a replacement of the GFI relay, its repair, or some other means identified in the airplane maintenance manual. However, the paragraph referenced by the commenter is not restated in this supplemental NPRM. Therefore, no change to this supplemental NPRM is necessary in this regard.

Request To Permit Incorporation of Universal Fault Interrupter (UFI)

TDG Aerospace requested that we change the previous NPRM to reflect incorporation of a UFI it produces as an approved means of compliance for providing electrical fault protection for the center fuel tank override boost pumps. Thomson Airways, Jet2.com, FedEx, Continental Airlines, American Airlines, and DHL support TDG Aerospace's request. TDG Aerospace stated that FAA Supplemental Type Certificate (STC) ST01950LA, issued January 17, 2007, installs the TDG Aerospace UFI on Model 757 airplanes. TDG Aerospace pointed out that the UFIs have been approved as an alternative method of compliance (AMOC) with the requirements of paragraph (g) of AD 2008-11-07, Amendment 39-15529 (73 FR 30755, May 29, 2008), and paragraph (e) of AD 2002-24-51, Amendment 39-12900 (67 FR 61253, September 30, 2002), for certain Model 757-200 and 757-300 airplanes.

We acknowledge the commenter's request to allow the incorporation of the TDG Aerospace UFI for compliance with this supplemental NPRM. We will be working closely with TDG Aerospace on this issue; however, we have not yet completed evaluating the STC (STC ST01950LA) against the GFI-specific requirements of this supplemental NPRM. We issued AMOC approvals for certain requirements of ADs 2008-11-07 and 2002-24-51 in reference to potential ignition due to the generation of sparks caused by metal-to-metal contact during dry fuel pump operation, rather than generation by electrical arcing that this supplemental NPRM addresses. If substantiating data demonstrate that the TDG Aerospace UFI will provide an acceptable level of safety, we might consider reflecting incorporation of the STC as an option when we issue the final rule AD. We have not changed the supplemental NPRM in this regard.

Request Use of Substitutes for Common Hardware

American Airlines requested that operators be allowed to use substitutes for common hardware such as washers, nuts, bolts, shims, sealants, and adhesives that have been determined to be equivalent to the operator's parts management system. American Airlines stated that the Parts Disposition Authority for American Airlines is contained in the engineering procedures manual (EPM), which is incorporated by reference into the general manual that is required by the FAA-approved operations specification. The commenter stated that the EPM defines the process by which parts equivalency can be established. American Airlines stated that using approved substitutes for common hardware will eliminate unnecessary AMOC requests for equivalent hardware.

We disagree with the request to allow the use of substitutes for common hardware. Common hardware, as detailed above, in certain cases may play an integral role in the safety and integrity of the installation. The specific importance of common hardware may not always be obvious, and parts equivalency can only be assessed and addressed by an engineering review of the system and its installation. Operators may use the approved fastener and process material substitutions listed in the Accomplishment Instructions of Boeing Service Bulletins 757-28A0078 and 757-28A0079, both Revision 1, both dated August 24, 2010, as applicable. According to the provisions of paragraph (k) of this AD, operators may request approval of an AMOC to use substitutes for common hardware, if the request is submitted with substantiating data that demonstrate the substitutes for common hardware will provide an acceptable level of safety. We have not changed the supplemental NPRM in this regard.

Explanation of Changes Made to This Supplemental NPRM

We have revised this supplemental NPRM to identify the legal name of the manufacturer as published in the most recent type certificate data sheet for the affected airplane models.

Since issuance of the original NPRM, we have increased the labor rate used in the Costs of Compliance from $80 per work-hour to $85 per work-hour. The Costs of Compliance information, below, reflects this increase in the specified hourly rate.

We have also revised the Costs of Compliance in this supplemental NPRM to include the cost of the inspection to ensure that the installation screws used to secure the GFI relays have enough grip length to hold the screws to each nutplate and the cost of the bonding resistance measurement.

We have been advised that there is an error in Boeing Service Bulletins 757-28A0078 and 757-28A0079, both Revision 1, both dated August 24, 2010. The note in paragraph 3.B.12.i(5), refers to the left override fuel boost pump instead of the right override fuel boost pump. Boeing has issued Service Bulletin Information Notices (IN) 757-28A0078 IN 02 and 757-28A0079 IN 02, both dated October 6, 2010, to inform operators of the error. We have added a new paragraph (i) to this supplemental NPRM to reflect this change.

FAA's Determination

We are proposing this supplemental NPRM because we evaluated all the relevant information and determined the unsafe condition described previously is likely to exist or develop in other products of the same type design. Certain changes described above expand the scope of the original NPRM. As a result, we have determined that it is necessary to reopen the comment period to provide additional opportunity for the public to comment on this supplemental NPRM.

Proposed Requirements of the Supplemental NPRM

This supplemental NPRM would require accomplishing the actions specified in the service information described previously.

Costs of Compliance

We estimate that this proposed AD will affect 696 airplanes of U.S. registry.

We estimate the following costs to comply with this proposed AD:

Estimated Costs
Action | Labor cost | Parts cost | Cost per product | Cost on U.S. operators
Replacement, measurement, and operational test | 7 work-hours × $85 per hour = $595 | $12,600 | $13,195 | Up to $9,183,720.¹
Inspection of screw installation and bonding resistance measurement | 1 work-hour × $85 per hour = $85 | 0 | 85 | $59,160.
¹ The cost on U.S. operators depends on airplane configuration.

We estimate the following costs to do the inspection to ensure that certain installation screws have sufficient grip length for airplanes on which the original issue of the service bulletins has been incorporated. We have no way of determining the number of airplanes that might need this inspection:

On-Condition Costs
Action | Labor cost | Parts cost | Cost per product
Installation of longer screw | 1 work-hour × $85 per hour = $85 | $0 | $85

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2009-0908; Directorate Identifier 2009-NM-067-AD.

Comments Due Date

(a) We must receive comments by January 28, 2011.

Affected ADs

(b) None.

Applicability

(c) This AD applies to The Boeing Company Model 757-200, -200PF, -200CB, and -300 series airplanes, certificated in any category; as identified in the applicable service bulletin specified in paragraph (c)(1) or (c)(2) of this AD.

(1) For Model 757-200, -200PF, and -200CB series airplanes: Boeing Service Bulletin 757-28A0078, Revision 1, dated August 24, 2010.

(2) For Model 757-300 series airplanes: Boeing Service Bulletin 757-28A0079, Revision 1, dated August 24, 2010.

Subject

(d) Joint Aircraft System Component (JASC)/Air Transport Association (ATA) of America Code 28, Fuel.

Unsafe Condition

(e) This AD was prompted by fuel system reviews conducted by the manufacturer. We are issuing this AD to prevent damage to the fuel pumps caused by electrical arcing that could introduce an ignition source in the fuel tank, which, in combination with flammable fuel vapors, could result in a fuel tank explosion and consequent loss of the airplane.

Compliance

(f) Comply with this AD within the compliance times specified, unless already done.

Replacement, Measurements and Test

(g) For airplanes on which the actions specified in Boeing Alert Service Bulletin 757-28A0078 or 757-28A0079, both dated July 16, 2008, have not been accomplished as of the effective date of this AD: Within 60 months after the effective date of this AD, replace the power control relays for the fuel boost pumps and override pumps with new relays having a ground fault interrupt (GFI) feature; do applicable electrical bonding resistance measurements between the GFI relays and their installation panel to verify that applicable bonding requirements are met; and do an operational test to ensure correct operation, as specified in Boeing Service Bulletin 757-28A0078, Revision 1, dated August 24, 2010 (for Model 757-200, -200CB, and -200PF airplanes); or Boeing Service Bulletin 757-28A0079, Revision 1, dated August 24, 2010 (for Model 757-300 airplanes). Do all actions in accordance with Part 1 of the Accomplishment Instructions of Boeing Service Bulletin 757-28A0078, Revision 1, dated August 24, 2010 (for Model 757-200, -200CB, and -200PF airplanes); or Boeing Service Bulletin 757-28A0079, Revision 1, dated August 24, 2010 (for Model 757-300 airplanes); except as required by paragraph (i) of this AD.

Inspection

(h) For airplanes on which the actions specified in Boeing Alert Service Bulletin 757-28A0078 or 757-28A0079, both dated July 16, 2008, have been accomplished before the effective date of this AD: Within 60 months after the effective date of this AD, do a general visual inspection to verify that each GFI installation screw has enough grip length to hold the screws in each nut plate; and do applicable electrical bonding resistance measurements between the GFI relays and their installation panel to verify that applicable bonding requirements are met. If the screw does not have enough grip length, before further flight, install a longer screw. Do all actions in accordance with Part 2 of the Accomplishment Instructions of Boeing Service Bulletin 757-28A0078, Revision 1, dated August 24, 2010 (for Model 757-200, -200CB, and -200PF airplanes); or Boeing Service Bulletin 757-28A0079, Revision 1, dated August 24, 2010 (for Model 757-300 airplanes).

Exception to the Service Information

(i) The note in paragraph 3.B.12.i(5) of Part 1 of the Accomplishment Instructions of Boeing Service Bulletins 757-28A0078 and 757-28A0079, both Revision 1, both dated August 24, 2010, should read, “NOTE: The right override fuel boost pump PRESS light stays off when the pump switch is turned to OFF.”

Paperwork Reduction Act Burden Statement

(j) A Federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Alternative Methods of Compliance (AMOCs)

(k)(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to: 9-ANM-Seattle-ACO-AMOC-Requests@faa.gov.

(2) Before using any approved AMOC, notify your Principal Maintenance Inspector or Principal Avionics Inspector, as appropriate, or lacking a principal inspector, your local Flight Standards District Office.

Related Information

(l) For more information about this AD, contact Georgios Roussos, Aerospace Engineer, Systems and Equipment Branch, ANM-130S, Seattle ACO, FAA, 1601 Lind Avenue, SW., Renton, Washington 98057-3356; telephone (425) 917-6482; fax (425) 917-6590. Or, e-mail information to 9-ANM-Seattle-ACO-AMOC-Requests@faa.gov; e-mail: Georgios.Roussos@faa.gov.

(m) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Issued in Renton, Washington, on December 23, 2010.
John P. Piccola,
Acting Manager, Transport Airplane Directorate, Aircraft Certification Service.

[FR Doc. 2010-33129 Filed 12-30-10; 8:45 am]

BILLING CODE 4910-13-P